DEPARTMENT OF JUSTICE

Drug Enforcement Administration

Muttaiya Darmarajah, M.D.; Revocation of Registration

On May 29, 2001, the Deputy Assistant Administrator, Office of Diversion Control, Drug Enforcement Administration (DEA), issued an Order to Show Cause (OTSC) by certified mail to Muttaiya Darmarajah, M.D., notifying him of an opportunity to show cause as to why the DEA should not revoke his DEA Certificate of Registration, AD3082702, pursuant to 21 U.S.C. 824(a)(3), and to deny any pending applications for renewal of such registration, pursuant to 21 U.S.C. 823(f), on the grounds that Dr. Darmarajah was not authorized by the State of Florida to handle controlled substances. The order also notified Dr. Darmarajah that should no request for hearing be filed within 30 days, his right to a hearing would be deemed waived.

The OTSC was sent to Dr. Darmarajah at his DEA registered premises in Panama City, Florida. A postal delivery receipt was signed June 11, 2001, on behalf of Dr. Darmarajah, indicating the OTSC was received. To date, no response has been received from Dr. Darmarajah nor anyone purporting to represent him.

Therefore, the Administrator, finding that (1) 30 days having passed since the receipt of the Order to Show Cause, and (2) no request for a hearing having been received, concludes that Dr. Darmarajah is deemed to have waived his right to a hearing. Following a complete review of the investigative file in this matter, the Administrator now enters his final order without a hearing pursuant to 21 CFR 1301.43(d) and (e), and 1301.46.

The Administrator finds as follows. Dr. Darmarajah currently possesses DEA Certificate of Registration AD3082702, issued to him in Florida. By Final Order of the Board of Medicine, State of Florida, dated September 5, 2000, Dr. Darmarajah's license to practice medicine in the State of Florida was revoked. The revocation was based upon a State of Florida Department of Health Administrative Complaint alleging that Dr. Darmarajah pleaded guilty on or about May 14, 1998 in the United States District Court for the Northern District of Florida to knowingly and willfully charging the Civilian Health and Medical Program of the Uniformed Services and Medicare for false and fraudulent claims for reimbursement of health care services, in violation of 18 U.S.C. 287, and also of filing a false and fraudulent tax return, in violation of 26 U.S.C. 7201. As a result, Dr. Darmarajah was sentenced to 15 months in Federal prison and $929,599.43 in restitution. The investigative file contains no evidence that Dr. Darmarajah's medical license has been reinstated or otherwise renewed.

Therefore, the Administrator concludes that Dr. Darmarajah is not currently licensed or authorized to handle controlled substances in Florida.

The DEA does not have the statutory authority pursuant to the Controlled Substances Act to issue or to maintain a registration if the applicant or registrant is without state authority to handle controlled substances in the state in which he or she practices. See 21 U.S.C. 823(f), and 824(a)(3). This prerequisite has been consistently upheld in prior DEA cases. See Graham Travers Schuler, M.D., 65 FR 50570 (2000); Romeo J. Perez, M.D. 62 FR 16193 (1997); Demetris A. Green, M.D., 61 FR 60728 (1996); Dominick A. Ricci, M.D., 58 FR 51104 (1993).

In the instant case, the Administrator finds the Government has presented evidence demonstrating that Dr. Darmarajah is not authorized to practice medicine in Florida, and therefore, the Administrator infers that Dr. Darmarajah is also not authorized to handle controlled substances in Florida, the State in which he holds his DEA Certificate of Registration.

Accordingly, the Administrator of the Drug Enforcement Administration, pursuant to the authority vested in him by 21 U.S.C. 823 and 824 and 28 CFR 0.100(b) and 0.104, hereby orders that the DEA Certificate of Registration AD3082702, previously issued to Muttaiya Darmarajah, M.D., be, and it hereby is, revoked. The Administrator hereby further orders that any pending applications for renewal or modification of said registration be, and hereby are, denied. This order is effective November 19, 2001.

Dated: October 10, 2001.
Asa Hutchinson,
Administrator.

Certificate of Service

This is to certify that the undersigned, on October 10, 2001, placed a copy of the Final Order referenced in the enclosed letter in the interoffice mail addressed to Robert Walker, Esq., Office of Chief Counsel, Drug Enforcement Administration, Washington, D.C. 20537; and caused a copy to be mailed, postage prepaid, registered return receipt to Muttaiya Darmarajah, M.D., 2638 East 40th Street, Panama City, Florida 32405.

Karen C. Grant.

[FR Doc. 01-26188 Filed 10-17-01; 8:45 am]

BILLING CODE 4410-09-M